FEDERAL COMMUNICATIONS COMMISSION

[WC Docket No. 06-122; DA 15-1361]

Proposed Changes to the FCC Form 499-A, FCC Form 499-Q, and Accompanying Instructions

AGENCY: Federal Communications Commission.

ACTION: Notice; Solicitation of comments.

SUMMARY: In this document, the Federal Communications Commission's Wireline Competition Bureau (Bureau) seeks comment on proposed revisions to the annual Telecommunications Reporting Worksheet, FCC Form 499-A (FCC Form 499-A) and accompanying instructions (FCC Form 499-A Instructions) to be used in 2016 to report 2015 revenues, and (2) quarterly Telecommunications Reporting Worksheet, FCC Form 499-Q (FCC Form 499-Q) and accompanying instructions (FCC Form 499-Q Instructions) to be used in 2016 to report projected collected revenues on a quarterly basis.

DATES: Comments are due on or before December 24, 2015.

ADDRESSES: Interested parties may file comments on or before December 24, 2015. All pleadings are to reference WC Docket No. 06-122. Comments may be filed using the Commission's Electronic Comment Filing System (ECFS) or by filing paper copies, by any of the following methods:

• Electronic Filers: Comments may be filed electronically using the Internet by accessing the ECFS: http://fjallfoss.fcc.gov/ecfs2/.

• Paper Filers: Parties who choose to file by paper must file an original and one copy of each filing.

• People with Disabilities: To request materials in accessible formats for people with disabilities (Braille, large print, electronic files, audio format), send an email to fcc504@fcc.gov or call the Consumer & Governmental Affairs Bureau at (202) 418-0530 (voice), (202) 418-0432 (tty).

FOR FURTHER INFORMATION CONTACT: Regina Brown, Wireline Competition Bureau at (202) 418-7400 or TTY (202) 418-0484.

For detailed instructions for submitting comments and additional information on the rulemaking process, see the SUPPLEMENTARY INFORMATION section of this document.

SUPPLEMENTARY INFORMATION: This is a synopsis of the Bureau's Public Notice in WC Docket No. 06-122; DA 15-1361, released November 24, 2015. The complete text of this document is available for inspection and copying during normal business hours in the FCC Reference Information Center, Portals II, 445 12th Street SW., Room CY-A257, Washington, DC 20554.

I. Synopsis

1. In order to promote clarity, transparency and predictability, the Bureau seeks comment on proposed revisions to (1) the 2016 annual Telecommunications Reporting Worksheet, FCC Form 499-A, and the FCC Form 499-A Instructions to be used in 2016 to report 2015 revenues, and (2) the 2016 quarterly Telecommunications Reporting Worksheet, FCC Form 499-Q, and the FCC Form 499-Q Instructions to be used in 2016 to report projected collected revenues on a quarterly basis. The revisions to the 2016 FCC Forms and instructions are attached to the Public Notice in redline format, showing proposed changes from the forms and instructions currently in effect. The redlines (and clean versions) may be viewed on the Commission's Web site, as follows: FCC Form 499-A, available at http://hraunfoss.fcc.gov/edocs_public/attachmatch/DA-15-1361A2.pdf; FCC Form 499-A Instructions, available at http://hraunfoss.fcc.gov/edocs_public/attachmatch/DA-15-1361A3.pdf; FCC Form 499-Q, available at http://hraunfoss.fcc.gov/edocs_public/attachmatch/DA-15-1361A4.pdf; and FCC Form 499-Q Instructions available at http://hraunfoss.fcc.gov/edocs_public/attachmatch/DA-15-1361A5.pdf.

II. Discussion

The proposed revisions include the following modifications:

2. 2016 FCC Form 499-A Instructions

A. DC Agent Service of Process Change. Filers are now required to submit updates to their registration information, including their DC Agent for Service of Process, to only the Universal Service Administrative Company (USAC), the universal service Administrator (page 12).

B. Corporate Contract Information. Line 207 of the FCC Form 499-A and the accompanying instructions (page 17) were revised slightly to reflect the fact that USAC does not send Worksheets to filers.

C. Language Conforming to the TRS Order. The language of the FCC Form 499-A Instructions (page 18) was revised slightly to conform to the Commission's decision in the TRS Order (FCC 11-150; rel October 7, 2011) to require non-interconnected VoIP providers to register with the Commission.

D. Language Conforming the Open Internet Order. The language of the FCC Form 499-A instructions (page 26 and footnote 50) was revised slightly to conform to the Commission's decision regarding broadband Internet access service in the 2015 Open Internet Order (FCC 15-24; rel March 12, 2015).

E. International Service Provider Reporting Changes. Changed references to section 43.61 to 43.62 throughout the FCC Form 499-A Instructions to conform to Commission rule changes.

F. Changes to Reflect Electronic Filing. Minor wording in the FCC Form 499-A instructions was revised to reflect the fact that the FCC Forms are filed electronically (e.g., references to “paper” filings).

3. Changes to the 2016 FCC Form 499-Q Instructions

Revision to the FCC Form 499-Q Instructions. The description of what to include on Line 117 on page 17 of the FCC Form 499-Q instructions was revised to include the term “cable service” to be consistent with the FCC Form 499-A instructions.

4. Changes to Both the 2016 FCC Form 499-A and FCC Form 499-Q and Instructions

A. Traffic Studies Filing Change. Removed the requirement for filers to send a copy of their traffic studies to the Commission. Filers must now only submit one copy to USAC at the address provided in the instructions.

B. Date Changes. Dates were updated throughout the FCC Forms and instructions. References to “2015” were changed to “2016” and references to “2014” were changed to “2015.”

C. Circularity Factor Update. The circularity factor was adjusted and updated in the FCC Form 499-A and the FCC Form 499-Q instructions based upon the quarterly contribution factors.

D. Stylistic Changes. In a number of instances, minor wording in the FCC Forms 499-A and 499-Q and accompanying instructions was revised for clarification purposes, without changing the substance. Citations were also added in several instances in the FCC Form 499-A for clarification purposes and section number references were updated throughout the FCC Form 499-A instructions to accurately reference the sections. Additionally, the FCC Form 499-A instructions were reformatted to make them more reader-friendly.

5. Paperwork Reduction Act of 1995. This document does not contain new or modified information collection(s) subject to the Paperwork Reduction Act of 1995 (PRA), Public Law 104-13. In addition, therefore, it does not contain any new or modified information burden for small business concerns with fewer than 25 employees, pursuant to the Small Paperwork Relief Act of 2002, Public Law 107-198, see 44 U.S.C. 3506(c)(4).

6. Pursuant to §§ 1.415 and 1.419 of the Commission's rules, 47 CFR 1.415, 1.419, interested parties may file comments on or before the dates indicated on the first page of this document. All pleadings are to reference WC Docket No. 06-122. Comments may be filed using: (1) The Commission's Electronic Comment Filing System (ECFS), or (2) by filing paper copies. All filings must be addressed to the Commission's Secretary, Office of the Secretary, Federal Communications Commission.

7. Electronic Filers: Comments may be filed electronically using the Internet by accessing the ECFS: http://apps.fcc.gov/ecfs/. Filers should follow the instructions provided on the Web site for submitting comments.

8. Paper Filers: Parties who choose to file by paper must file an original and one copy of each filing. Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th Street SW., Room TW-A325, Washington, DC 20554. The filing hours are 8:00 a.m. to 7:00 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW., Washington DC 20554.

9. Additional copies. We request that parties send one copy of each filing to each of the following:

• Regina Brown, Telecommunications Access Policy Division, Wireline Competition Bureau, 445 12th Street SW., Room 5-A333, Washington, DC 20554; email: Regina.Brown@fcc.gov; and

• Charles Tyler, Telecommunications Access Policy Division, Wireline Competition Bureau, 445 12th Street SW., Room 5-A452, Washington, DC 20554; email: Charles.Tyler@fcc.gov.

10. People with Disabilities: To request materials in accessible formats for people with disabilities (Braille, large print, electronic files, audio format), send an email to fcc504@fcc.gov or call the Consumer & Governmental Affairs Bureau at (202) 418-0530 (voice), (202) 418-0432

11. Filings and comments are also available for public inspection and copying during regular business hours at the FCC Reference Information Center, Portals II, 445 12th Street SW., Room CY-A257, Washington, DC 20554.

12. The proceeding this Notice initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Federal Communications Commission.
Ryan Palmer,
Division Chief, Telecommunications Access Policy Division Wireline Competition Bureau.

[FR Doc. 2015-32002 Filed 12-22-15; 8:45 am]

BILLING CODE 6712-01-P